DEPARTMENT OF TRANSPORTATION

Office of the Secretary

Notice of Applications for Certificates of Public Convenience and Necessity and Foreign Air Carrier Permits Filed Under Subpart B (Formerly Subpart Q) During the Week Ending May 20, 2005

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-21281.

Date Filed: May 16, 2005. Due Date for Answers, Conforming Applications, or Motion to Modify Scope: June 6, 2005.

Description: Application of Pacific Island Aviation, Inc., giving notice of intent to resume interstate/foreign scheduled air transportation under 49 U.S.C. Section 41102.

Docket Number: OST-2005-21286.

Date Filed: May 18, 2005.

Due Date for Answers, Conforming Applications, or Motion to Modify Scope: June 8, 2005.

Description: Application of Platinum Airlines, Inc., requesting a certificate of public convenience and necessity authorizing it to engage in interstate charter air transportation of persons, property and mail.

Docket Number: OST-2005-21287.

Date Filed: May 18, 2005.

Due Date for Answers, Conforming Applications, or Motion to Modify Scope: June 8, 2005.

Description: Application of Platinum Airlines, Inc., requesting a certificate of public convenience and necessity authorizing it to engage in foreign charter air transportation of persons, property and mail.

Docket Number: OST-2005-21307.

Date Filed: May 19, 2005.

Due Date for Answers, Conforming Applications, or Motion to Modify Scope: June 9, 2005.

Description: Application of ASTAR Air Cargo, Inc., requesting an amendment to its certificate of public convenience and necessity for Route 725, to provide scheduled foreign air transportation of property and mail between the city pair: Los Angeles, CA and Mexico City, Mexico.

Maria Gulczewski,
Acting Program Manager, Docket Operations, Alternate Federal Register Liaison.

[FR Doc. 05-11287 Filed 6-6-05; 8:45 am]

BILLING CODE 4910-62-P